DEPARTMENT OF THE INTERIOR

National Park Service

[NPS-WASO-NAGPRA-NPS0031998; PPWOCRADN0-PCU00RP14.R50000]

Notice of Inventory Completion: San Juan County Museum Association DBA Salmon Ruins Museum, Bloomfield, NM

AGENCY: National Park Service, Interior.

ACTION: Notice.

SUMMARY: The San Juan County Museum Association (hereafter referred to as the Salmon Ruins Museum) has completed an inventory of human remains and associated funerary objects, in consultation with the appropriate Indian Tribes or Native Hawaiian organizations, and has determined that there is no cultural affiliation between the human remains and associated funerary objects and present-day Indian Tribes or Native Hawaiian organizations. Representatives of any Indian Tribe or Native Hawaiian organization not identified in this notice that wish to request transfer of control of these human remains and associated funerary objects should submit a written request to the Salmon Ruins Museum. If no additional requestors come forward, transfer of control of the human remains and associated funerary objects to the Indian Tribes, or Native Hawaiian organizations stated in this notice may proceed.

DATES: Representatives of any Indian Tribe or Native Hawaiian organization not identified in this notice that wish to request transfer of control of these human remains and associated funerary objects should submit a written request with information in support of the request to the Salmon Ruins Museum at the address in this notice by June 25, 2021.

ADDRESSES: Larry L. Baker, Executive Director, Salmon Ruins Museum, 6131 US Highway 64, P.O. Box 125, Bloomfield, NM 87413, telephone (505) 632-2013, email sreducation@sisna.com.

SUPPLEMENTARY INFORMATION: Notice is here given in accordance with the Native American Graves Protection and Repatriation Act (NAGPRA), 25 U.S.C. 3003, of the completion of an inventory of human remains and associated funerary objects under the control of the Salmon Ruins Museum, Bloomfield, NM. The human remains and associated funerary objects were removed from San Juan County, New Mexico.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Salmon Ruins Museum professional staff in consultation with the Hopi Tribe of Arizona; Navajo Nation, Arizona, New Mexico, & Utah; Pueblo of Acoma, New Mexico; Pueblo of Pojoaque, New Mexico; Pueblo of San Felipe, New Mexico; Pueblo of Santa Clara, New Mexico; Pueblo of Zia, New Mexico; and the Zuni Tribe of the Zuni Reservation, New Mexico. The Jicarilla Apache Nation, New Mexico; Pueblo of Cochiti, New Mexico; Pueblo of Isleta, New Mexico; Pueblo of Jemez, New Mexico; Pueblo of Laguna, New Mexico; Pueblo of Nambe, New Mexico; Pueblo of Picuris, New Mexico; Pueblo of San Ildefonso, New Mexico; Pueblo of Sandia, New Mexico; Pueblo of Santa Ana, New Mexico; Pueblo of Taos, New Mexico; Pueblo of Tesuque, New Mexico; Southern Ute Indian Tribe of the Southern Ute Reservation, Colorado; Ute Mountain Ute Tribe [previously listed as Ute Mountain Tribe of the Ute Mountain Reservation, Colorado, New Mexico, & Utah]; and the Ysleta del Sur Pueblo [previously listed as Ysleta Del Sur Pueblo of Texas] were invited to consult but did not participate. Hereafter, the above listed Indian Tribes are referred to as “The Tribes.”

History and Description of the Remains

Between 1970 and 1978, human remains representing, at minimum, 155 individuals were removed from Salmon Ruins (aka Salmon Pueblo) in San Juan County, NM, by Eastern New Mexico University as part of the San Juan Valley Archaeological Program (SJVAP), directed by Dr. Cynthia Irwin-Williams. The SJVAP began in 1970. In 1973, the Salmon Ruins Museum was built to house the collections from the excavations at Salmon Pueblo, and since that date, these human remains and associated funerary objects have been held at the Museum. The human remains belong to 27 infants, 59 juveniles of undetermined sex, one probable female juvenile, 16 adult males, one probable adult male, 15 adult females, 33 adults of undetermined sex, and three individuals of undetermined age and sex. No known individuals were identified. The 8,442 associated funerary items include 2,845 non-human animal bone artifacts, 2,577 ceramic vessels or pieces, 1,187 ethnobotanical plant items, 39 pieces of turkey eggshell, 538 stone artifacts, 21 ornaments, 324 perishable items (including matting, cotton cloth, basketry, cordage, sandal fragments, yucca items, etc.), 463 wood artifacts, and 448 soil samples (removed during excavation from burial areas).

Around 1938, human remains representing, at minimum, two individuals were removed from a site on the Ben Crane Ranch, in the La Plata Valley, San Juan County, NM. In 1996, these human remains were donated to the Salmon Ruins Museum. The human remains belong to a juvenile of undetermined sex and an adult female. No known individuals were identified. The seven associated funerary objects include one cloudblower pipe, three bone awls, and three pieces of animal bone.

Around 1959, human remains representing, at minimum, two individuals were removed from an unknown site most likely located in San Juan County, NM. Sometime prior to 1996, these human remains were donated to the Salmon Ruins Museum. The human remains—two skulls—belong to a female of undetermined age and a male of undetermined age. No known individuals were identified. No associated funerary objects are present.

At some point in the 1960s, human remains representing, at minimum, one individual were removed from an unknown site in Largo Canyon, San Juan County, NM. In 2008, these human remains were donated to the Salmon Ruins Museum. The human remains—a skull with partial mandible—belong to an adult male. No known individual was identified. No associated funerary objects are present.

At some point in the 1960s, human remains representing, at minimum, one individual were removed from an unknown site in Largo Canyon, San Juan County, NM. In 2007, these human remains were donated to the Salmon Ruins Museum. The human remains—a skull—belong to an adult male. No known individual was identified. No associated funerary objects are present.

Around 1968, human remains representing, at minimum, two individuals were removed from an unknown site most likely located in San Juan County, NM. In 1996, these human remains were donated to the Salmon Ruins Museum. The human remains—two skulls—belong to an adult male and an adult female. No known individuals were identified. The two associated funerary objects are rim sherds from a ceramic bowl.

In 1972, human remains representing, at minimum, one individual were removed from a site on private land in San Juan County, NM. The site is designated SJ 146. In 1981, these human remains were donated to the Salmon Ruins Museum. The human remains belong to a juvenile. No known individual was identified. The 10 associated funerary objects are nine pieces of animal bone and one soil sample taken from the burial area.

In 1972, human remains representing, at minimum, one individual were removed from a site on private land located west of Salmon Ruins (Pueblo) in San Juan County, NM. In 1973, these human remains were donated to the Salmon Ruins Museum. The human remains belong to a juvenile. No known individual was identified. The nine associated funerary objects are one metate stone used as a grave cover and eight animal bones.

In 1973, human remains representing, at minimum, one individual were removed from a site on private land in San Juan County, NM. The site is designated ENM 5109. In 1975, these human remains were donated to the Salmon Ruins Museum. The human remains belong to an adult male. No known individual was identified. The two associated funerary objects include one ceramic vessel and one soil sample taken from the burial area.

Sometime prior to 1975, human remains representing, at minimum, two individuals were removed from an unknown site most likely located in San Juan County, NM. In 1975, these human remains were donated to the Salmon Ruins Museum. The human remains belong to an adult male and an adult of unknown sex. No known individuals were identified. No associated funerary objects are present.

Sometime prior to 1975, human remains representing, at minimum, two individuals were removed from an unknown site most likely located in San Juan County, NM. In 1996, these human remains were donated to the Salmon Ruins Museum. The human remains—two skulls with mandibles—belong to an adult male and an adult female. No known individuals were identified. No associated funerary objects are present.

In 1975, human remains representing, at minimum, one individual were removed from the Morris 41 site (ENM 5098) in the La Plata Valley, San Juan County, NM. In 1975, these human remains were donated to the Salmon Ruins Museum. The human remains belong to a juvenile. No known individual was identified. The four associated funerary objects are soil samples from the burial area.

In 1976, human remains representing, at minimum, three individuals were removed from an unknown site most likely located in San Juan County, NM. Sometime prior to 1996, these human remains were donated to the Salmon Ruins Museum. The human remains belong to an adult of unknown sex and two juveniles. No known individuals were identified. The seven associated funerary objects are ceramic sherds.

In 1977, human remains representing, at minimum, two individuals were removed from an unknown site in the vicinity of Gobernador, San Juan County, NM. Sometime prior to 1996, these human remains were donated to the Salmon Ruins Museum. The human remains belong to an adult male and an adult female. No known individuals were identified. The 11 associated funerary objects are ceramic sherds.

Sometime prior to 1981, human remains representing, at minimum, one individual were removed from an unknown site most likely located in San Juan County, NM. In 1981, these human remains were donated to the Salmon Ruins Museum. The human remains—a skull and mandible—belong to an adult male. No known individual was identified. The 31 associated funerary objects are ceramic vessel sherds.

Sometime prior to 1990, human remains representing, at minimum, one individual were removed from the Roberts site in the La Plata Valley, San Juan County, NM. In 1980, these human remains were donated to the Salmon Ruins Museum. The human remains belong to an adult male. No known individual was identified. The 525 associated funerary objects include 225 ceramic sherds, four pieces of burned adobe, 295 stone tools and artifacts, and one corn cob.

In 1990, human remains representing, at minimum, one individual were removed from site LA 10274, located just west of the Salmon Ruins Museum in San Juan County, NM. In 1990, these human remains were donated to the Salmon Ruins Museum. The human remains belong to an individual of unknown age and sex. No known individual was identified. No associated funerary objects are present.

In 1994, human remains representing, at minimum, two individuals were removed from site LA 104984 in San Juan County, NM. In 1995, these human remains were donated to the Salmon Ruins Museum. The human remains belong to an adult female and a juvenile. No known individuals were identified. The 146 associated funerary objects include 66 ceramic sherds, 60 animal bones, 12 stone artifacts, two pieces of wood charcoal, and six pollen samples.

Sometime prior to 1996, human remains representing, at minimum, three individuals were removed from an unknown site most likely located in San Juan County, NM. In 1996, these human remains were donated to the Salmon Ruins Museum. The human remains—two skulls—belong to two adult males. No known individuals were identified. No associated funerary objects are present.

Sometime prior to 1996, human remains representing, at minimum, four individuals were removed from an unknown site most likely located in San Juan County, NM. In 1996, these human remains were donated to the Salmon Ruins Museum. The human remains belong to three juveniles and one adult female. No known individuals were identified. No associated funerary objects are present.

Sometime prior to 1996, human remains representing, at minimum, two individuals were removed from an unknown site most likely located in San Juan County, NM, and were donated to the Salmon Ruins Museum. The human remains belong to two juveniles. No known individuals were identified. No associated funerary objects are present.

Sometime prior to 1996, human remains representing, at minimum, one individual were removed from an unknown site most likely located in San Juan County, NM. In 1996, these human remains were donated to the Salmon Ruins Museum. The human remains belong to an adult of undetermined sex. No known individual was identified. The 24 associated funerary objects are three partial ceramic vessels, two ceramic handles, one ceramic human leg effigy, one stone artifact, 12 bone artifacts, and five minerals.

In 2008, human remains representing, at minimum, two individuals were removed from site LA 159001, near Farmington, San Juan County, NM. In 2008, these human remains were donated to the Salmon Ruins Museum. The human remains belong to an adult female and a juvenile. No known individuals were identified. The 415 associated funerary objects include 367 ceramic sherds, one piece of burned adobe, 39 stone tools and artifacts, one bone awl, three pieces of yellow ochre, three pieces of wood-charcoal, and one soil sample from the burial area.

Sometime prior to 2011, human remains representing, at a minimum, one individual were removed from an unknown site most likely located in San Juan County, NM. In 2011, these human remains were donated to the Salmon Ruins Museum. The human remains—a mandible—belong to an adult male. No known individual was identified. No associated funerary objects are present.

Determinations Made by Salmon Ruin Museum

Officials of the Salmon Ruins Museum have determined that:

• Pursuant to 25 U.S.C. 3001(9), the human remains described in this notice are Native American based on their discovery in Native American sites and locations.

• Pursuant to 25 U.S.C. 3001(9), the human remains described in this notice represent the physical remains of 194 individuals of Native American ancestry.

• Pursuant to 25 U.S.C. 3001(3)(A), the 9,635 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Treaties, Acts of Congress, or Executive Orders indicate that the land from which the Native American human remains and associated funerary objects were removed is the aboriginal land of The Tribes.

• Pursuant to 43 CFR 10.11(c)(1), the disposition of the human remains and associated funerary objects may be to The Tribes.

Additional Requestors and Disposition

Representatives of any Indian Tribe or Native Hawaiian organization not identified in this notice that wish to request transfer of control of these human remains and associated funerary objects should submit a written request with information in support of the request to Larry L. Baker, Executive Director, Salmon Ruins Museum, 6131 US Highway 64, P.O. Box 125, Bloomfield, NM 87413, telephone (505) 632-2013, email sreducation@sisna.com, by June 25, 2021. After that date, if no additional requestors have come forward, transfer of control of the human remains and associated funerary objects to The Tribes may proceed.

The Salmon Ruins Museum is responsible for notifying The Tribes that this notice has been published.

Dated: May 17, 2021.
Melanie O'Brien,
Manager, National NAGPRA Program.

[FR Doc. 2021-11121 Filed 5-25-21; 8:45 am]

BILLING CODE 4312-52-P